DEPARTMENT OF ENERGY

[OE Docket No. EA-284-B]

Application to Export Electric Energy; Sempra Energy Solutions LLC

AGENCY: Office of Electricity Delivery and Energy Reliability, DOE.

ACTION: Notice of application.

SUMMARY: Sempra Energy Solutions LLC (SES) applied to renew its authority to export electric energy from the United States to Mexico for a period of five years pursuant to section 202(e) of the Federal Power Act.

DATES: Comments, protests, or requests to intervene must be submitted on or before November 23, 2009.

ADDRESSES: Comments, protests, or requests to intervene should be addressed as follows: Office of Electricity Delivery and Energy Reliability, Mail Code: OE-20, U.S. Department of Energy, 1000 Independence Avenue, SW., Washington, DC 20585-0350 (FAX 202-586-8008).

FOR FURTHER INFORMATION CONTACT: Ellen Russell (Program Office) 202-586-9624 or Michael Skinker (Program Attorney) 202-586-2793.

SUPPLEMENTARY INFORMATION: Exports of electricity from the United States to a foreign country are regulated by the Department of Energy (DOE) pursuant to sections 301(b) and 402(f) of the Department of Energy Organization Act (42 U.S.C. 7151(b), 7172(f)) and require authorization under section 202(e) of the FPA (16 U.S.C. 824a(e)).

On September 4, 2003, DOE issued Order No. EA-284 authorizing Sempra Energy Solutions LLC (SES) to transmit electric energy from the United States to Mexico as a power marketer for a term of three-years. On March 12, 2007, DOE issued Order No. EA-284-A, which renewed that authority for an additional three-year term. That authority will expire on March 12, 2010. On September 30, 2009, DOE received an application from SES, as later amended on October 6, 2009, to renew its authority to export electric energy to Mexico for a five-year term.

The electric energy which SES proposes to export to Mexico would be surplus energy purchased from electric utilities, Federal power marketing agencies and other entities. The energy SES purchases will be delivered to Mexico over transmission facilities owned by San Diego Gas and Electric Company (SDG&E). The construction, operation, maintenance and connection of these facilities was previously authorized by a Presidential permit issued pursuant to Executive Order 10485, as amended.

Procedural Matters: Any person desiring to become a party to these proceedings or to be heard by filing comments or protests to this application should file a petition to intervene, comment, or protest at the address provided above in accordance with §§ 385.211 or 385.214 of the Federal Energy Regulatory Commission's Rules of Practice and Procedures (18 CFR 385.211, 385.214). Fifteen copies of each petition and protest should be filed with DOE on or before the date listed above.

Comments on the SES application to export electric energy to Mexico should be clearly marked with Docket No. EA-284-B. Additional copies are to be filed directly with Greg Bass, Sempra Energy Solutions LLC, 401 West A Street, Suite 500, San Diego, CA 92101. A final decision will be made on this application after the environmental impacts have been evaluated pursuant to the National Environmental Policy Act of 1969, and a determination is made by DOE that the proposed action will not adversely impact on the reliability of the U.S. electric power supply system.

Copies of this application will be made available, upon request, for public inspection and copying at the address provided above, by accessing the program Web site at http://www.oe.energy.gov/permits_pending.htm, or by e-mailing Odessa Hopkins at Odessa.hopkins@hq.doe.gov.

Issued in Washington, DC, on October 16, 2009.
Anthony J. Como,
Director, Permitting and Siting, Office of Electricity Delivery and Energy Reliability.

[FR Doc. E9-25438 Filed 10-21-09; 8:45 am]

BILLING CODE 6450-01-P